DEPARTMENT OF HEALTH AND HUMAN SERVICES

National Institutes of Health

Workshop on Shift Work at Night, Artificial Light at Night, and Circadian Disruption; Notice of Public Meeting; Registration Information

SUMMARY: The National Toxicology Program (NTP) announces the public workshop “Shift Work at Night, Artificial Light at Night, and Circadian Disruption.” The purpose of the workshop is to obtain external scientific input on topics important for informing the literature-based health hazard assessments conducted by the NTP's Office of the Report on Carcinogens (ORoC) and Office of Health Assessment and Translation (OHAT). This workshop is open to the public to attend in-person or by webcast. Information about the meeting and registration are available at (http://ntp.niehs.nih.gov/go/workshop_ALAN).

DATES: Meeting: March 10, 2016, from 2:30 p.m. to 5:30 p.m. and March 11, 2016, from 8:00 a.m. to approximately 6:00 p.m. Eastern Standard Time (EST).

Meeting Registration: February 1, 2016 through March 4, 2016. Registration to attend the workshop in-person is available only for March 11 and not March 10 and will close prior to March 4 if space capacity at NIEHS is reached. The webcast is available on both March 10 and 11. Registration to view the workshop via webcast is required and will remain open through March 11, 2016.

Workshop Materials: Workshop materials, including preliminary agenda, registration for attendance in-person and by webcast, and other materials, are available at http://ntp.niehs.nih.gov/go/workshop_ALAN; other materials will be posted by March 4, 2016.

ADDRESSES: Meeting Location: Rodbell Auditorium, Rall Building, National Institute of Environmental Health Sciences (NIEHS), 111 T.W. Alexander Drive, Research Triangle Park, NC 27709

Meeting Web page: The preliminary agenda and registration are available at http://ntp.niehs.nih.gov/go/workshop_ALAN.

Webcast: The workshop will be webcast. The URL will be provided by email in the registration confirmation.

FOR FURTHER INFORMATION CONTACT: Dr. Windy Boyd, OHAT-ORoC, DNTP, NIEHS, P.O. Box 12233, MD K2-04, Research Triangle Park, NC 27709. Telephone: (919) 541-9810, email: boydw@niehs.nih.gov.

SUPPLEMENTARY INFORMATION: Background: Many people experience interruptions in light-dark cycles due to their lifestyle choices (e.g., use of electronic devices at night), location of their residences (e.g., urban light pollution), or working at night (e.g., shift work). Exposures to ALAN or changes in the timing of exposures to natural light (such as with `jet lag') may disrupt biological processes controlled by endogenous circadian rhythms, potentially resulting in adverse health outcomes. NTP is interested in understanding the health effects of circadian disruption related to ALAN and shift work. ORoC and OHAT plan to conduct health hazard assessments focusing on cancer (ORoC) and non-cancer health outcomes (OHAT).

NTP is convening a workshop on March 10-11, 2016, to obtain external scientific input on topics important for informing the literature-based health hazard assessments, including strategies for integrating data across evidence streams and exposure scenarios, and on data gaps and research needs.

The workshop includes the following sessions:

• Circadian disruption

• ALAN

• shift work and trans-meridian travel (jet lag)

• additional overlapping exposures in ALAN/shift work studies

• strategies to synthesize across different types of exposure scenarios studies

• data gaps and research needs

Each session will start with a brief presentation followed by a short question-and-answer period and/or moderator-led discussion.

Meeting and Registration: This workshop is open to the public, free of charge, with attendance limited only by the space available. Individuals who plan to attend in-person for March 11, 2016, should register at http://ntp.niehs.nih.gov/go/workshop_ALAN by March 4, 2016, to facilitate meeting planning. Registration for in-person attendance will close before March 4 if space capacity at NIEHS is reached. Registration is required to view the webcast; the URL for the webcast will be provided in the email confirming registration. A preliminary agenda and additional information are available at http://ntp.niehs.nih.gov/go/workshop_ALAN. Interested individuals are encouraged to access the Web site to stay abreast of the most current information regarding the workshop.

Visitor and security information for those attending in-person is available at https://www.niehs.nih.gov/about/visiting/. Individuals with disabilities who need accommodation to participate in this event should contact Dr. Boyd at telephone: (919) 541-9810 or email: boydw@niehs.nih.gov. TTY users should contact the Federal TTY Relay Service at 800-877-8339. Requests should be made at least five business days in advance of the event.

Background Information on ORoC: On behalf of NTP, ORoC conducts literature-based evaluations to identify agents, substances, mixtures, or exposures (collectively called “substances”) in our environment that pose a cancer hazard for people in the United States. These cancer hazards are listed in the Report on Carcinogens (RoC), a congressionally mandated, science-based, public health report that is prepared by NTP for the Secretary of Health and Human Services. Published biennially, each edition of the RoC is cumulative and consists of substances newly reviewed in addition to those listed in previous editions. Newly reviewed substances with their recommended listing are reviewed and approved by the Secretary of Health and Human Services. The 13th RoC, the latest edition, was published on October 2, 2014 (available at http://ntp.niehs.nih.gov/go/roc13). The 14th RoC is under development.

Background Information on OHAT: On behalf of NTP, OHAT conducts literature-based evaluations to assess the evidence that environmental chemicals, physical substances, or mixtures (collectively referred to as “substances”) cause adverse non-cancer health outcomes. As part of these evaluations, NTP may also provide opinions on whether these substances might be of concern for causing adverse effects on human health given what is known about toxicity and current human exposure levels.

Dated: February 5, 2016.
John R. Bucher,
Associate Director, National Toxicology Program.

[FR Doc. 2016-02703 Filed 2-10-16; 8:45 am]

BILLING CODE 4140-01-P